DEPARTMENT OF LABOR

Employment and Training Administration

[TA-W-70,853]

Parkdale Mills, Inc., Gastonia, NC; Notice of Termination of Investigation

Pursuant to Section 223 of the Trade Act of 1974, as amended, an investigation was initiated in response to a petition filed by a company official on June 2, 2009 on behalf of workers of Parkdale Mills, Inc., Gastonia, North Carolina.

The petitioner has requested that the petition be withdrawn. Consequently, the investigation has been terminated.

Signed at Washington, DC, this 27th day of August 2009.
Richard Church,
Certifying Officer, Division of Trade Adjustment Assistance.

[FR Doc. E9-20453 Filed 8-25-09; 8:45 am]

BILLING CODE 4510-FN-P